DEPARTMENT OF STATE

[Public Notice 3584]

Fine Arts Committee; Notice of Meeting

The Fine Arts Committee of the Department of State will meet on Saturday, March 31, 2001, at 11:00 a.m. in the Benjamin Franklin State Dinning Room. The meeting will last until approximately 12:30 p.m. and is open to the public.

The agenda for the committee meeting will include a summary of the work of the Fine Arts Office since its last meeting in October 2000 and the announcement of gifts of furnishings as well as financial contributions for calendar year 2000. Public access to Department of State is strictly controlled. Members of the public wishing to take part in the meeting should telephone the Fine Arts Office by March 26, 2001, telephone (202) 647-1990 to make arrangements to enter the building. The public may take part in the discussion as long as time permits and at the discretion of the chairman.

Dated: March 2, 2001.
Gail F. Serfaty,
Vice Chairman, Fine Arts Committee, U.S. Department of State.

[FR Doc. 01-5767 Filed 3-7-01; 8:45 am]

BILLING CODE 4710-38-U